DEPARTMENT OF COMMERCE

National Oceanic and Atmospheric Administration

[I.D. 031500B]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 3-7, 2000. The Council meeting will begin on Monday, April 3, at 1:30 p.m., reconvening each day through Friday. All meetings are open to the public, except a closed session will be held from 8 a.m. until 8:30 a.m. on Tuesday, April 4 to address litigation and personnel matters. The Council will meet as late as necessary each day to complete its scheduled business.

ADDRESSES: The meetings and hearing will be held at the Doubletree Hotel - Columbia River, 1401 Hayden Island Drive, Portland, OR 97217; telephone: (503) 283-2111.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions, Roll Call

2. Executive Director's Report

3. Approve Agenda

B. Groundfish Management

1. Agendum Overview

2. Status of Federal Regulations, Research Programs, and Other Activities

3. Harvest Rate Policy

4. Exempted Fishing Permits: Research Efforts

5. Canary Rockfish Allocation and Inseason Adjustment in the Pink Shrimp and Other Fisheries

6. Adoption of Rockfish Bycatch Estimate and Inseason Adjustments in Relevant Fisheries

7. Inseason Adjustments including English Sole and Redband Rockfish Retention Regulations

8. Inseason Adjustment in the Vertical Line Black Rockfish Allocation

9. Plan Amendment for Stock Rebuilding

10. Rebuilding Plans for Canary Rockfish and Cowcod

11. Status of Groundfish Strategic Plan

12. Observer Program

13. Plan Amendment to Address Bycatch and Management Measure Issues-Review First Draft

14. Renewal of Emergency Rule for 2000 Management Measures

15. American Fisheries Act

16. Efforts to Reduce Yellowtail Rockfish Catch in the Whiting Fishery: Review of Exempted Fishing Permit

C. Salmon Management

1. Agendum Overview

2. Identification of Stocks Not Meeting Escapement Goals for Three Consecutive Years

3. Methodology Reviews for 2000

4. Tentative Adoption of 2000 Ocean Salmon Management Measures for Analysis

5. Clarify Council Direction on 2000 Management Measures, If Necessary

6. Final Action on 2000 Measures

7. Clarification of Final Action on 2000 Measures (IF NECESSARY)

D. Administrative and Other Matters

1. Agendum Overview

2. Report of the Budget Committee

3. Report of the Legislative Committee

4. Establishment of a Council Operating Procedure for E-Mail

5. Appointments to and Composition of Council Advisory Entities

6. Groundfish Workload Issues

7. June 2000 Draft Agenda

E. Marine Reserves

Staff Report

F. Habitat Issues

Report of the Habitat Steering Group

Advisory Meetings

The Groundfish Management Team will meet at 1 p.m. on Sunday, April 2 and throughout the week as necessary to address groundfish management items on the Council agenda.

The Salmon Advisory Subpanel will convene on Monday, April 3, at 8 a.m. and will continue to meet throughout the week as necessary to address salmon management items on the Council agenda.

The Scientific and Statistical Committee will convene on Monday, April 3, at 8 a.m., and on Tuesday, April 4, at 8 a.m. to address scientific issues on the Council agenda.

The Habitat Steering Group meets at 9 a.m. on Monday, April 3, to address issues and actions affecting habitat of fish species managed by the Council.

The Budget Committee meets on Monday, April 3 at 9 a.m. to review the status of the 2000 Council budget and the proposed budget for 2001.

The Groundfish Advisory Subpanel will meet at 9:30 a.m. on Monday, April 3 and will convene throughout the week to address groundfish management items on the Council agenda.

The Salmon Technical Team will convene throughout the week (Monday April 3 through Friday April 7) as necessary to address salmon management items on the Council agenda.

The Enforcement Consultants meet at 5:30 p.m. on Tuesday, April 4, and will continue to meet as necessary through Friday, April 7 to address enforcement issues relating to Council agenda items.

The ad-hoc Marine Reserve Committee will meet on Tuesday, April 4 at 5 p.m. to discuss marine reserve issues relating to Council agenda items.

Comments on Council Agenda Items will not be accepted if submitted via e-mail or internet.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Mr. John S. Rhoton at (503) 326-6352 at least 5 days prior to the meeting date.

Dated: March 16, 2000.
Bruce C. Morehead,
Acting Director, Office of Sustainable Fisheries, National Marine Fisheries Service.

[FR Doc. 00-6981 Filed 3-20-00; 8:45 am]

BILLING CODE 3510-22-F